DEPARTMENT OF TRANSPORTATION

Federal Aviation Administration

14 CFR Part 39

[Docket No. 2001-NM-402-AD]

RIN 2120-AA64

Airworthiness Directives; Gulfstream Aerospace LP Model 1125 Westwind Astra Series Airplanes

AGENCY: Federal Aviation Administration, DOT.

ACTION: Notice of proposed rulemaking (NPRM).

SUMMARY: This document proposes the supersedure of an existing airworthiness directive (AD), applicable to certain Gulfstream Aerospace LP Model 1125 Westwind Astra series airplanes, that currently requires revising the Airplane Flight Manual (AFM) to provide the flight crew with operational guidance under certain failure conditions and a limitation not to engage the long-range navigation system during takeoff, approach, or landing. This action would require replacing the low-voltage sensing relays with higher-accuracy relays, and replacing the circuit breakers of the directional gyros with circuit breakers with lower amps. After the replacements have been accomplished, this action would also require inserting a new temporary revision (TR) in the Limitations section of the AFM, or removing the revision to the AFM required by the previous AD. The actions specified by the proposed AD are intended to prevent the loss of primary attitude and directional gyros, which relate position information to the flight crew. This action is intended to address the identified unsafe condition.

DATES: Comments must be received by March 25, 2004.

ADDRESSES: Submit comments in triplicate to the Federal Aviation Administration (FAA), Transport Airplane Directorate, ANM-114, Attention: Rules Docket No. 2001-NM-402-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-402-AD” in the subject line and need not be submitted in triplicate. Comments sent via the Internet as attached electronic files must be formatted in Microsoft Word 97 or 2000 or ASCII text.

The service information referenced in the proposed rule may be obtained from Gulfstream Aerospace Corporation, P.O. Box 2206, Mail Station D25, Savannah, Georgia 31402. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-402-AD.” The postcard will be date stamped and returned to the commenter.

Availability of NPRMs

Any person may obtain a copy of this NPRM by submitting a request to the FAA, Transport Airplane Directorate, ANM-114, Attention: Rules Docket No. 2001-NM-402-AD, 1601 Lind Avenue, SW., Renton, Washington 98055-4056.

Discussion

On September 5, 2000, the FAA issued AD 2000-18-11, amendment 39-11896 (65 FR 55450, September 14, 2000), applicable to certain Gulfstream Aerospace LP (Formerly Israel Aircraft Industries, Ltd.) Model 1125 Westwind Astra series airplanes, to require revising the Airplane Flight Manual (AFM) to provide the flight crew with operational guidance under certain failure conditions and a limitation not to engage the long-range navigation system during takeoff, approach, or landing. That action was prompted by a report of the failure of a single alternating current inverter, which resulted in the simultaneous in-flight failure of all primary attitude and directional gyros on board. The requirements of that AD are intended to prevent loss of power to the electronic flight information system (EFIS) screens and internal gyros during takeoff, approach, or landing, and consequent loss of primary position information to the flight crew.

Actions Since Issuance of Previous Rule

The preamble to AD 2000-18-11 specified that we considered the requirements “interim action” and that the manufacturer may develop a modification to address the unsafe condition. That AD explained that we may consider further rulemaking if a modification is developed, approved, and available. The manufacturer now has developed such a modification, and we have determined that further rulemaking is indeed necessary; this proposed AD follows from that determination.

Explanation of Relevant Service Information

We have reviewed and approved Astra (Gulfstream Aerospace Corporation) Alert Service Bulletin 1125-24A-246, dated September 26, 2001, which describes procedures for replacing existing low voltage sensing relays with higher-accuracy relays capable of providing warning at approximately 97.5 volts alternating current (VAC), and for replacing the 3-amp directional gyros circuit breakers with 0.5-amp circuit breakers. Accomplishment of the actions specified in the service bulletin is intended to adequately address the identified unsafe condition.

We have also reviewed and approved Temporary Revision (TR) #13, dated October 31, 2001, which directs operators to remove TR #9 from the Limitations section of the AFM.

Accomplishment of the actions specified in the service bulletin and the TR is intended to adequately address the identified unsafe condition. The Civil Aviation Administration of Israel (CAAI) classified this service bulletin as mandatory and issued Israeli AD 24-01-06-04 to ensure the continued airworthiness of these airplanes in Israel.

Explanation of Requirements of Proposed Rule

Since an unsafe condition has been identified that is likely to exist or develop on other products of this same type design, the proposed AD would supersede AD 2000-18-11 to continue to require a revision to the Limitations section of the AFM. This proposed AD would also require replacing the low-voltage sensing relays with higher-accuracy relays; replacing the circuit breakers of the directional gyros with circuit breakers with lower amps; and inserting a new temporary revision in the Limitations Section of the AFM that directs operators to remove the revision to the AFM required by the previous AD, after the proposed replacements have been accomplished. The actions would be required to be accomplished in accordance with the service bulletin described previously, except as discussed below.

Difference Between the Proposed AD and the Service Bulletin

Operators should note that, although the Accomplishment Instructions of the referenced service bulletin describe procedures for submitting a certificate of compliance to the manufacturer, this proposed AD would not require those actions.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance. Because we have now included this material in part 39, we no longer need to include it in each individual AD; therefore, paragraphs (b) and (c) and Note 2 of AD 2000-18-11 are not included in this proposed AD. However, this proposed AD identifies the office authorized to approve alternative methods of compliance.

Explanation of Change to Applicability

We have revised the applicability of the existing AD to identify model designations as published in the most recent type certificate data sheet for the affected models.

Cost Impact

There are approximately 29 airplanes of U.S. registry that would be affected by this proposed AD.

The actions that are currently required by AD 2000-18-11 take approximately 1 work hour per airplane to accomplish, at an average labor rate of $65 per work hour. Based on these figures, the cost impact of the currently required actions on U.S. operators is estimated to be $1,885, or $65 per airplane.

The new actions that are proposed in this AD action would take approximately 24 work hours per airplane to accomplish for the proposed replacements, and approximately 1 work hour per airplane to accomplish for the proposed revision of the AFM. The average labor rate is $65 per work hour. Required parts would cost approximately $1,030 per airplane. Based on these figures, the cost impact of the proposed requirements of this AD on U.S. operators is estimated to be $76,995, or $2,655 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11896 (65 FR 55450, September 14, 2000), and by adding a new airworthiness directive (AD), to read as follows:

Gulfstream Aerospace LP (Formerly Israel Aircraft Industries, Ltd.): Docket 2001-NM-402-AD. Supersedes AD 2000-18-11, Amendment 39-11896.

Applicability: Model 1125 Westwind Astra series airplanes, certificated in any category; serial numbers 004 through 029 inclusive, and 031 through 041 inclusive.

Compliance: Required as indicated, unless accomplished previously.

To prevent the loss of primary attitude and directional gyros, which relate position information to the flight crew, accomplish the following:

Restatement of the Requirements of AD 2000-18-11

AFM Revision

(a) Within 10 days after September 29, 2000 (the effective date of AD 2000-18-11), revise the Limitations and Abnormal Procedures Sections of the Israel Aircraft Industries, Ltd., Astra Airplane Flight Manual (AFM) by inserting a copy of Temporary Revision No. 9, dated May 21, 2000, into the AFM.

Note 1: When the temporary revision required by paragraph (a) of this AD has been incorporated into the general revisions of the AFM, the general revisions may be inserted into the AFM, provided that the information contained in the general revisions is identical to that specified in the temporary revision.

New Requirements of this AD

Replacements

(b) Within 50 flight hours after the effective date of this AD: Replace existing sensing relays with new higher-accuracy relays having new part number (P/N) 1350-X3042; and replace existing DIRECT GYRO 1 and 2 circuit breakers having P/N 7274-47-3 with new circuit breakers having new P/N 7274-47-0.5; in accordance with the Accomplishment Instructions of Astra (Gulfstream Aerospace Corporation) Alert Service Bulletin 1125-24A-246, dated September 26, 2001.

New AFM Revision

(c) Before further flight following the actions required by paragraph (b) of this AD, remove Temporary Revision No. 9, dated May 21, 2000, from the AFM; or revise the Limitations and Abnormal Procedures Sections of the Gulfstream Aerospace LP ASTRA AFM by inserting a copy of Temporary Revision No. 13, dated October 31, 2001, into the AFM.

Note 2: When the temporary revision required by paragraph (c) of this AD has been incorporated into the general revisions of the AFM, the general revisions may be inserted into the AFM, provided that the information contained in the general revisions is identical to that specified in the temporary revision.

No Reporting Requirement

(d) Operators should note that, although the Accomplishment Instructions of the service bulletin referenced in paragraph (b) of this AD describe procedures for submitting a certificate of compliance to the manufacturer, this AD does not require those actions.

Alternative Methods of Compliance

(e) In accordance with 14 CFR 39.19, the Manager, International Branch, ANM-116, FAA, Transport Airplane Directorate, is authorized to approve alternative methods of compliance (AMOCs) for this AD.

Note 3: The subject of this AD is addressed in Israeli airworthiness directive 24-01-06-04, dated November 13, 2001.

Issued in Renton, Washington, on February 3, 2004.
Ali Bahrami,
Acting Manager, Transport Airplane Directorate, Aircraft Certification Service.

[FR Doc. 04-2679 Filed 2-6-04; 8:45 am]

BILLING CODE 4910-13-P